FEDERAL COMMUNICATIONS COMMISSION

47 CFR Part 73

[DA 06-1906; MB Docket No. 04-20; RM-10842, RM-11128, RM-11129, RM-11130]

Radio Broadcasting Services; Cambridge, MD, Chincoteague, VA; Newark, St. Michaels, and Stockton, MD

AGENCY: Federal Communications Commission.

ACTION: Final rule; denial of petition for reconsideration.

SUMMARY: In response to a petition for reconsideration of a Report and Order, this Memorandum Opinion and Order denies a request by CWA Broadcasting, Inc. (“Petitioner”), the licensee of Station WINX-FM, St. Michaels, Maryland, to upgrade its present Channel 232A to Channel 232B1, reallot Channel 232B1 to Cambridge, and modify Station WINX-FM's license accordingly. The Memorandum Opinion and Order also denies the Petitioner's alternative request to allot Channel 232B1 to Oxford, Maryland, and to change Petitioner's community of license from St. Michaels to Oxford, Maryland, as untimely and in contravention of Section 1.420(d) of the Commission's Rules.

ADDRESSES: Federal Communications Commission, 445 12th Street, SW., Washington, DC 20554.

FOR FURTHER INFORMATION CONTACT: R. Barthen Gorman, Media Bureau, (202) 418-2180.

SUPPLEMENTARY INFORMATION: This is a synopsis of the Commission's Memorandum Opinion and Order, MB Docket No. 04-20, adopted September 20, 2006, and released September 22, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. This document is not subject to the Congressional Review Act. The Commission is, therefore, not required to send a copy of this Memorandum Opinion and Order in a report to be sent to Congress and the Government Accountability Office pursuant to the Congressional Review Act, see 5 U.S.C. 801(a)(1)(A), because the petition for reconsideration was denied.

Federal Communications Commission.
John A. Karousos,
Assistant Chief, Audio Division, Media Bureau.

[FR Doc. E6-17349 Filed 10-17-06; 8:45 am]

BILLING CODE 6712-01-P